DEPARTMENT OF TRANSPORTATION

National Highway Traffic Safety Administration

[Docket No. NHTSA 2002-13989; Notice 1]

Glaval Bus, Inc., Receipt of Application for Decision of Inconsequential Noncompliance

Glaval Bus Inc. (Glaval) has determined that a total of 900 “Glaval Model Universal, Primetime, & Titan buses” do not meet the labeling requirements mandated by Federal Motor Vehicle Safety Standard (FMVSS) No. 208, “Occupant Crash Protection.”

Pursuant to 49 U.S.C. 30118(d) and 30120(h), Glaval has petitioned for a determination that this noncompliance is inconsequential to motor vehicle safety and has filed an appropriate report pursuant to 49 CFR part 573, “Defect and Noncompliance Reports.”

This notice of receipt of an application is published under 49 U.S.C. 30118 and 30120 and does not represent any agency decision or other exercise of judgment concerning the merits of the application.

Description of the Noncompliance

During the period of January 1, 1999 through August 16, 2002, Glaval manufactured 900 buses with erroneous labeling. Of this total, all have been delivered to end users.

FMVSS No. 208 (S4.5.1(b)) requires vehicles to have a warning label permanently affixed to the sun visor concerning air bags. FMVSS No. 208 (S4.5.1(b)(3)) prohibits any other information from being on the same side of the sun visor as the air bag warning label, except an air bag maintenance label or a utility vehicle rollover warning label.

The noncompliance relates to the prohibition in S4.5.1(b)(3), in that Glaval was applying a passenger capacity label and in some instances a back up warning label to the sun visor next to the air bag warning label.

Information Supporting the Application

Glaval does not believe that this noncompliance will impact motor vehicle safety because most buses built by Glaval require the driver to have a Commercial Driver's License and these drivers are required to do a pre-trip inspection during which it is highly unlikely they would not notice that the bus had an air bag.

Interested persons are invited to submit written data, views, and arguments on the application described above. Comments should refer to the docket number and be submitted to: U.S. Department of Transportation, Docket Management, Room PL-401, 400 Seventh Street, SW, Washington, DC 20590. It is requested that two copies be submitted.

All comments received before the close of business on the closing date indicated below will be considered. The application and supporting materials, and all comments received after the closing date, will also be filed and will be considered to the extent possible. When the application is granted or denied, the notice will be published in the Federal Register pursuant to the authority indicated below. Comment closing date: January 17, 2003.

Authority: (49 U.S.C. 301118, 301120; delegations of authority at 49 CFR 1.50 and 501.8).

Issued on: December 13, 2002.
Stephen R. Kratzke,
Associate Administrator for Rulemaking.

[FR Doc. 02-31881 Filed 12-17-02; 8:45 am]

BILLING CODE 4910-59-P